DEPARTMENT OF HOUSING AND URBAN DEVELOPMENT

[Docket No. FR-5955-N-01]

Paperwork Reduction Act—Rental Assistance Demonstration (RAD) Documents

AGENCY: Office of the Assistant Secretary for Housing, HUD.

ACTION: Notice.

SUMMARY: The Rental Assistance Demonstration allows Public Housing, Moderate Rehabilitation (Mod Rehab), Rent Supplement (Rent Supp), and Rental Assistance Payment (RAP) properties to convert to long-term project-based Section 8 rental assistance contracts. The documents that subject to this notice are those used to process and complete the conversion process for Public Housing, Mod Rehab, Rent Supp, and RAP properties.

On March 17, 2016, HUD published a 60-day notice announcing proposed changes to the existing Rental Assistance Demonstration (RAD) Documents and solicited public comments on the proposal.

An emergency request has been made to the Office of Management and Budget (OMB) for a short term six-month extension of the existing RAD Documents so that the program can continue to operate while HUD reviews and responds to the comments received during the 60-day comment period, and completes the Paperwork Reduction Act submission process for amending and renewing the RAD Documents for a period of three years.

DATES: Office of Management and Budget approval of the existing RAD Documents is set to expire on June 30, 2016.

FOR FURTHER INFORMATION CONTACT: Stacy Harrison, Recapitalization Program Specialist, Office of Housing, Department of Housing and Urban Development, 451 7th Street SW., Washington, DC 20410-8000; telephone: 202-402-4234 (this is not a toll-free number). Hearing- or speech-impaired individuals may access these numbers through TTY by calling the Federal Relay Service at 800-877-8339 (this is a toll-free number).

Dated: June 17, 2016.
Genger Charles,
General Deputy Assistant Secretary For Housing.

[FR Doc. 2016-14924 Filed 6-22-16; 8:45 am]

BILLING CODE 4210-67-P